DEPARTMENT OF TRANSPORTATION

Federal Aviation Administration

14 CFR Part 39

[Docket No. 2003-NE-28-AD; Amendment 39-13252; AD 2003-15-09]

RIN 2120-AA64

Airworthiness Directives; Rolls-Royce plc Trent 768-60, Trent 772-60, and Trent 772B-60 Turbofan Engines

AGENCY: Federal Aviation Administration (FAA), DOT.

ACTION: Final rule; request for comments.

SUMMARY: The FAA is adopting a new airworthiness directive (AD) for Rolls-Royce plc Trent 768-60, Trent 772-60, and Trent 772B-60 turbofan engines. This AD is prompted by several reports of low power surges. We are issuing this AD to prevent a possible dual-engine in-flight surge, which could result in loss of control of the airplane.

DATES: Effective August 21, 2003. The Director of the Federal Register approved the incorporation by reference of certain publications listed in the regulations as of August 21, 2003.

We must receive any comments on this AD by August 21, 2003.

ADDRESSES: Use one of the following addresses to submit comments on this AD:

• By mail: FAA, New England Region, Office of the Regional Counsel, 12 New England Executive Park, Burlington, MA 01803-5299.

• By fax: (781) 238-7055.

• By e-mail: 9-ane-adcomment@faa.gov.

You may get the service information referenced in this AD from Rolls-Royce plc, PO Box 31, Derby, England, DE248BJ; telephone: 011-44-1332-242424; fax: 011-44-1332-245-418.

You may examine the AD docket by appointment, at the FAA, New England Region, Office of the Regional Counsel, 12 New England Executive Park, Burlington, MA; or at the Office of the Federal Register, 800 North Capitol Street, suit 700, Washington, DC.

FOR FURTHER INFORMATION CONTACT: James Lawrence, Aerospace Engineer, Engine Certification Office, FAA, Engine and Propeller Directorate, 12 New England Executive Park, Burlington, MA 01803-5299; telephone (781) 238-7176; fax: (781) 238-7199.

SUPPLEMENTARY INFORMATION: The Civil Aviation Authority, (CAA), which is the airworthiness authority for the U.K., recently notified the FAA that an unsafe condition may exist on Rolls-Royce plc Trent 768-60, Trent 772-60, and Trent 772B-60 turbofan engines. The CAA advises that engines that have larger than anticipated high pressure compressor (HPC) tip clearances can lead to a corresponding loss of surge margin, resulting in low power surges.

Relevant Service Information

We have reviewed Rolls-Royce plc Service Bulletin (SB) No. RB.211-71-D509, Revision 2, dated April 17, 2002. The SB describes procedures for performing low power surge margin testing. The CAA classified this SB as mandatory and issued CAA airworthiness directive, AD 005-09-2001, dated April 17, 2002, to ensure the continued airworthiness of these airplanes in the U.K.

FAA's Determination and Requirements of This AD

Although none of these affected engine models are used on any airplanes that are registered in the United States, the possibility exists that the engine models could be used on airplanes that are registered in the United States in the future. Since an unsafe condition has been identified that is likely to exist or develop on other Rolls-Royce plc Trent 768-60, Trent 772-60, and Trent 772B-60 turbofan engines of the same type design, this AD is being issued to prevent a possible dual-engine in-flight surge, which could result in loss of control of the airplane. This AD requires initial and repetitive surge margin testing of engines. You must do these actions in accordance with the service bulletin described previously.

Bilateral Airworthiness Agreement

This engine model is manufactured in the U.K., and is type certificated for operation in the United States under section 21.29 of the Federal Aviation Regulations (14 CFR 21.29) and the applicable bilateral airworthiness agreement. In keeping with this bilateral airworthiness agreement, the CAA has kept the FAA informed of the situation described above. We have examined the findings of the CAA, reviewed all available information, and determined that we need to issue an AD for products of this type design that are certificated for operation in the United States.

FAA's Determination of the Effective Date

Since there are currently no domestic operators of these Rolls-Royce plc Trent 768-60, Trent 772-60, and Trent 772B-60 turbofan engines, notice and opportunity for prior public comment are unnecessary. Therefore, a situation exists that allows the immediate adoption of this regulation.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Interim Action

Surge margin testing is considered an interim action. Rolls-Royce plc may introduce redesigned parts in the future to resolve the cause of the surge problem.

Comments Invited

This AD is a final rule that involves requirements affecting flight safety and was not preceded by notice and an opportunity for public comment; however, we invite you to submit any written relevant data, views, or arguments regarding this AD. Send your comments to an address listed under ADDRESSES. Include “AD Docket No. 2003-NE-28-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-28-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-15-09 Rolls-Royce plc: Amendment 39-13252. Docket No. 2003-NE-28-AD

Effective Date

(a) This airworthiness directive (AD) becomes effective August 21, 2003.

Affected ADs

(b) None.

Applicability

(c) This AD applies to Rolls-Royce plc Trent 768-60, Trent 772-60, and Trent 772B-60 turbofan engines. These engines are installed on, but not limited to Airbus 330 series airplanes.

Unsafe Condition

(d) This AD is prompted by several reports of low power surges. We are issuing this AD to prevent a possible dual-engine in-flight surge, which could result in loss of control of the airplane.

Compliance

(e) You are responsible for having the actions required by this AD performed within the compliance times and cycles specified in paragraphs (f) and (g) of this AD, unless the actions have already been done.

Initial Surge Margin Testing

(f) Perform initial surge margin testing. Use paragraph 3. Accomplishment Instructions of Rolls-Royce plc Service Bulletin No. RB.211-71-D509, Revision 2, dated April 17, 2002 for testing, at the following intervals:

(1) Before further flight, for engines that have accumulated more than 2,000 cycles-since-new on the effective date of this AD; and for engines that have accumulated more than 1,000 cycles-since-overhaul of the high pressure compressor casings and blades.

(2) At or before engines accumulating 2,000 cycles-since-new; and for engines that have had level 3 overhaul of the high pressure compressor casings and blades, at or before the engine accumulating 1,000 cycles-since-overhaul.

Repetitive Surge Margin Testing

(g) Perform repetitive surge margin testing at intervals not to exceed 130 cycles-since-last surge margin test. Use paragraph 3 of the Accomplishment Instructions of Rolls-Royce plc Service Bulletin No. RB.211-71-D509, Revision 2, dated April 17, 2002, for testing.

Alternative Methods of Compliance (AMOCs)

(h) You must request AMOCs as specified in 14 CFR part 39.19. All AMOCs must be approved by the Manager, Engine Certification Office, FAA.

Material Incorporated by Reference

(i) Rolls-Royce plc Service Bulletin No. RB.211-71-D509, Revision 2, dated April 17, 2002. The Director of the Federal Register approved the incorporation by reference of this service bulletin in accordance with 5 U.S.C. 552(a) and 1 CFR part 51. You may get a copy from Rolls-Royce plc, PO Box 31, Derby, England, DE248BJ; telephone: 011-44-1332-242424; fax; 011-44-1332-245-418. You may review copies at FAA, New England Region, Office of the Regional Counsel, 12 New England Executive Park, Burlington, MA; or at the Office of the Federal Register, 800 North Capitol Street, suite 700, Washington, DC.

Related Information

(j) CAA airworthiness directive 005-09-2001, dated April 17, 2002, also addresses the subject of this AD.

Issued in Burlington, Massachusetts, on July 24, 2003.
Francis A. Favara,
Acting Manager, Engine and Propeller Directorate, Aircraft Certification Service.

[FR Doc. 03-19475 Filed 8-5-03; 8:45 am]

BILLING CODE 4910-13-P